Memorandum of December 8, 2004

Delegation of Certain Reporting Authority

Memorandum for the Chairman of the Federal Labor Relations Authority

By the authority vested in me as President by the Constitution and the laws of the United States, including section 301 of title 3, United States Code, I hereby delegate to the member who has been designated by the President as Chairman the functions conferred upon the President by 5 U.S.C. 7104(e) to provide the specified report to the Congress.

You are authorized and directed to publish this memorandum in the Federal Register.

B

THE WHITE HOUSE,

Washington, December 8, 2004.

[FR Doc. 04-27466

Filed 12-13-04; 8:45 am]

Billing code 3195-01-P